DEPARTMENT OF TRANSPORTATION

Surface Transportation Board

[STB Ex Parte No. 526 (Sub-No. 1)]

Notice of Railroad-Shipper Transportation Advisory Council Vacancy

AGENCY: Surface Transportation Board.

ACTION: Notice of vacancy on the Railroad-Shipper Transportation Advisory Council (RSTAC) and solicitation of nominations.

SUMMARY: The Surface Transportation Board (Board) hereby gives notice of one vacancy on RSTAC: a representative of a Class II or III railroad. The Board is soliciting suggestions for candidates to fill this vacancy.

DATES: Suggestions of candidates for membership on RSTAC are due on January 11, 2010.

ADDRESSES: Suggestions may be submitted either via the Board's e-filing format or in the traditional paper format. Any person using e-filing should attach a document and otherwise comply with the instructions at the E-FILING link on the Board's Web site, at http://www.stb.dot.gov. Any person submitting a filing in the traditional paper format should send an original and 10 copies to: Surface Transportation Board, Attn: STB Ex Parte No. 526 (Sub-No. 1), 395 E Street, SW., Washington, DC 20423-0001.

FOR FURTHER INFORMATION, CONTACT: Brian O'Boyle at 202-245-0536. Assistance for the hearing impaired is available through the Federal Information Relay Service (FIRS) at 1-800-877-8339.

SUPPLEMENTARY INFORMATION: The Board, created by Congress in 1996 to take over many of the functions previously performed by the Interstate Commerce Commission, exercises broad authority over transportation by rail carriers, including regulation of railroad rates and service (49 U.S.C. 10701-10747, 11101-11124), as well as the construction, acquisition, operation, and abandonment of rail lines (49 U.S.C. 10901-10907) and railroad line sales, consolidations, mergers, and common control arrangements (49 U.S.C. 10902, 11323-11327).

RSTAC was established upon the enactment of the ICC Termination Act of 1995 (ICCTA), on December 29, 1995, to advise the Board's Chairman, the Secretary of Transportation, the Committee on Commerce, Science, and Transportation of the Senate, and the Committee on Transportation and Infrastructure of the House of Representatives, with respect to rail transportation policy issues that RSTAC considers significant. RSTAC focuses on issues of importance to small shippers and small railroads, including car supply, rates, competition, and procedures for addressing claims. ICCTA directs RSTAC to develop private-sector mechanisms to prevent, or identify and address, obstacles to the most effective and efficient transportation system practicable. The Secretary of Transportation and the members of the Board cooperate with RSTAC in providing research, technical, and other reasonable support. RSTAC also prepares an annual report concerning its activities and recommendations on whatever regulatory or legislative relief it considers appropriate. RSTAC is not subject to the Federal Advisory Committee Act.

RSTAC consists of 19 members. Of this number, 15 members are appointed by the Chairman of the Board, and the remaining four members are the Secretary of Transportation and the Members of the Board, who serve as ex officio, nonvoting members of RSTAC. Of the 15 members to be appointed, nine members are voting members and are appointed from senior executive officers of organizations engaged in the railroad and rail shipping industries. At least four of the voting members must be representatives of small shippers as determined by the Chairman, and at least four of the voting members must be representatives of Class II or III railroads. The remaining six members to be appointed—three representing Class I railroads and three representing large shipper organizations—serve in a nonvoting, advisory capacity, but are entitled to participate in RSTAC deliberations.

RSTAC is required by statute to meet at least semi-annually, and has chosen to meet four times in 2010, with the first meeting tentatively scheduled in February 2010. Meetings are generally held at the Board's headquarters in Washington, DC, although some may be held in other locations.

The members of RSTAC receive no compensation for their services. RSTAC members are required to provide for the expenses incidental to their service, including travel expenses, as the Board cannot provide for these expenses. The RSTAC Chairman, however, may request funding from the Department of Transportation to cover travel expenses, subject to certain restrictions in ICCTA. RSTAC also may solicit and use private funding for its activities, again subject to certain restrictions in ICCTA. RSTAC members presently have elected to submit annual dues to pay for RSTAC expenses.

RSTAC members must be citizens of the United States and represent as broadly as practicable the various segments of the railroad and rail shipper industries. They may not be full-time employees of the United States. The members of RSTAC are appointed for a term of 3 years. A member may serve after the expiration of his or her term until a successor has taken office. No member will be eligible to serve in excess of two consecutive terms.

One vacancy currently exists for a 3-year term for a representative of a Class II or III railroad, beginning immediately upon appointment by the Chairman and ending on December 31, 2012. Suggestions for a member to fill this vacancy should be submitted in letter form, identifying the name of the candidate and a representation that the candidate is willing to serve a three-year term as a member of the RSTAC beginning in the Winter of 2010. Suggestions for a candidate for membership on RSTAC should be filed with the Board by January 11, 2010.

This action will not significantly affect either the quality of the human environment or the conservation of energy resources.

Authority: 49 U.S.C. 726.

Decided: December 7, 2009.
By the Board, Rachel D. Campbell, Director, Office of Proceedings.
Kulunie L. Cannon,
Clearance Clerk.

[FR Doc. E9-29517 Filed 12-10-09; 8:45 am]

BILLING CODE 4915-01-P